DEPARTMENT OF TRANSPORTATION

Federal Aviation Administration

Sixteenth Meeting: RTCA Special Committee 217—Aeronautical Databases Joint With EUROCAE WG-44—Aeronautical Databases

AGENCY: Federal Aviation Administration (FAA), U.S. Department of Transportation (DOT).

ACTION: Notice of RTCA Special Committee 217—Aeronautical Databases Joint with EUROCAE WG-44—Aeronautical Databases.

SUMMARY: The FAA is issuing this notice to advise the public of a meeting of RTCA Special Committee 217—Aeronautical Databases being held jointly with EUROCAE WG-44—Aeronautical Databases.

DATES: The meeting will be held June 17 through June 21, 2013, from 9:00 a.m. to 5:00 p.m.

ADDRESSES: The meeting will be held at Hilton Garden Inn, O'Fallon, Illinois, USA (Metro East St Louis).

FOR FURTHER INFORMATION CONTACT: Sophie Bousquet, SBousquet@rtca.org, 202-330-0663 or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of RTCA Special Committee 217—Aeronautical Databases held jointly with EUROCAE WG-44—Aeronautical Databases. The agenda will include the following:

Monday, June 17—Opening Plenary Session

• Co-Chairmen's remarks and introductions

• Housekeeping

• Approve minutes from 15th meeting

• Review and approve meeting agenda for 16th meeting

• Schedule and working arrangements for this week

• Review of joint WG-1/WG-2 Action Items

• Update on WorkSpace

• Closing Plenary Schedule

Monday thru Thursday, June 17 to 21—Working Group Sessions

Working Group One (WG1)—DO-200A/ED-76—Stephane Dubet

Working Group Two (WG2)—DO-272/DO-276/DO-291—John Kasten

Friday, June 21—Closing Plenary Session

• Presentation of WG1 and WG2 conclusions

• Working arrangements for the remaining work

• Review of action items

• Next meetings, dates and locations

• Any other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 23, 2013.
Paige L. Williams,
Management Analyst, Business Operations Group, ANG-A12, Federal Aviation Administration.

[FR Doc. 2013-10038 Filed 4-26-13; 8:45 am]

BILLING CODE 4910-13-P